DEPARTMENT OF COMMERCE

National Institute of Standards and Technology

Notice of Government Owned Inventions Available for Licensing

AGENCY: National Institute of Standards and Technology Commerce.

ACTION: Notice of government owned inventions available for licensing.

SUMMARY: The invention listed below is owned in whole by the U.S. Government, as represented by the Department of Commerce. The invention will be available for licensing beginning July 1, 2003, in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number and title for the relevant invention as indicated below.

SUPPLEMENTARY INFORMATION: NIST may enter into a Cooperative Research and Development Agreement (“CRADA”) with the licensee to perform further research on the inventions for purposes of commercialization. The invention available for licensing beginning July 1, 2003 is:

[Docket No.: 94-042US ]

Title: Optical Trap For Detection and Quantitation Of Subzeptomolar Quantities of Analytes.

Abstract: Tightly focused beams of laser light are used as “optical tweezers” to trap and manipulate polarizable objects such as microspheres of glass or latex with diameters on the order of 4.5 micrometers. When analytes are allowed to adhere to the microspheres, small quantities of these analytes can be manipulated, thus allowing their detection and quantitation even when amounts and concentrations of the analytes are extremely small. Illustrative examples include measuring the strength needed to break antibody-antigen bonds and the detection of DNA sequences.

Dated: June 17, 2003.
Karen H. Brown,
Deputy Director.

[FR Doc. 03-15872 Filed 6-23-03; 8:45 am]

BILLING CODE 3510-13-P